DEPARTMENT OF COMMERCE

International Trade Administration

[A-570-879]

Polyvinyl Alcohol From the People's Republic of China: Rescission of Antidumping Duty Administrative Review; 2018-2019

AGENCY: Enforcement and Compliance, International Trade Administration, Department of Commerce.

SUMMARY: The Department of Commerce (Commerce) is rescinding the administrative review of the antidumping duty order on polyvinyl alcohol (PVA) from the People's Republic of China (China) for the period of review October 1, 2018, through September 30, 2019, based on the timely withdrawal of the request for review.

DATES: Applicable February 25, 2020.

FOR FURTHER INFORMATION CONTACT: Charles Doss or Shanah Lee, AD/CVD Operations, Office III, Enforcement and Compliance, International Trade Administration, Department of Commerce, 1401 Constitution Avenue NW, Washington, DC 20230; telephone: (202) 482-4474 and (202) 482-6386, respectively.

Background

On October 1, 2019, Commerce published in the Federal Register a notice of opportunity to request an administrative review of the antidumping duty order on PVA from China for the period of review October 1, 2018, through September 30, 2019.¹ Pursuant to a timely filed request from Sekisui Specialty Chemical America, LLC (the petitioner),² in accordance with section 751(a) of the Tariff Act of 1930, as amended (the Act), and 19 CFR 351.221(c)(1)(i), Commerce initiated an administrative review of the antidumping duty order on PVA from China on December 11, 2019, with respect to Sinopec Sichuan Vinylon Works and its successor-in-interest,³ Sinopec Chongqing SVW Chemical Co., Ltd.⁴ On February 11, 2020, the petitioner timely withdrew its request for an administrative review with respect to all of the companies for which it had requested a review in its October 31, 2019, submission.⁵

¹ See Antidumping or Countervailing Duty Order, Finding, or Suspended Investigation; Opportunity to Request Administrative Review, 84 FR 52068 (October 1, 2019).

² See Petitioner's Letter, “Polyvinyl Alcohol from the People's Republic of China: Request for Antidumping Duty Administrative Review,” dated October 31, 2019.

³ See Polyvinyl Alcohol from the People's Republic of China: Notice of Final Results of Antidumping Duty Changed Circumstances Review, 84 FR 16246 (April 18, 2019).

⁴ See Initiation of Antidumping and Countervailing Duty Administrative Reviews, 84 FR 67712 (December 11, 2019).

⁵ See Petitioner's Letter, “Polyvinyl Alcohol from the People's Republic of China: Withdrawal of Request for Antidumping Duty Administrative Review,” dated February 11, 2020.

Rescission of Review

Pursuant to 19 CFR 351.213(d)(1), Commerce will rescind an administrative review, in whole or in part, if the party that requested the review withdraws its request within 90 days of the publication date of the notice of initiation of the requested review. The petitioner, who was the only party to request a review, withdrew its request within the 90-day deadline. Accordingly, we are rescinding the administrative review of the antidumping order on PVA from China covering the period October 1, 2018, through September 30, 2019, in its entirety.

Assessment

Commerce will instruct U.S. Customs and Border Protection (CBP) to assess antidumping duties on all appropriate entries of PVA from China. Antidumping duties shall be assessed at rates equal to the cash deposit rate of estimated antidumping duties required at the time of entry, or withdrawal from warehouse, for consumption, in accordance with 19 CFR 351.212(c)(1)(i). Commerce intends to issue appropriate assessment instructions to CBP 15 days after publication of this notice in the Federal Register.

Notification to Importers

This notice serves as the only reminder to importers whose entries will be liquidated as a result of this rescission notice, of their responsibility under 19 CFR 351.402(f)(2) to file a certificate regarding the reimbursement of antidumping duties prior to liquidation of the relevant entries during this review period. Failure to comply with this requirement could result in the presumption that reimbursement of the antidumping duties occurred and the subsequent assessment of double antidumping duties.

Notification Regarding Administrative Protective Order

This notice also serves as the only reminder to all parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Act and 19 CFR 351.213(d)(4).

Dated: February 19, 2020.
James Maeder,
Deputy Assistant Secretary for Antidumping and Countervailing Duty Operations.

[FR Doc. 2020-03737 Filed 2-24-20; 8:45 am]

BILLING CODE 3510-DS-P